DEPARTMENT OF THE INTERIOR

Fish and Wildlife Service

[FWS-HQ-ES-2013-N112; FXES1112090000-134-FF09E31000]

Proposed Information Collection; Fish and Wildlife Service Conservation Banking Survey

AGENCY: Fish and Wildlife Service, Interior.

ACTION: Notice; request for comments.

SUMMARY: We (U.S. Fish and Wildlife Service, Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by July 15, 2013.

ADDRESSES: Send your comments on the IC to the Service Information Collection Clearance Officer, U.S. Fish and Wildlife Service, MS 2042-PDM, 4401 North Fairfax Drive, Arlington, VA 22203 (mail); or hope_grey@fws.gov (email). Please include “1018—NEW” in the subject line of your comments.

FOR FURTHER INFORMATION CONTACT: To request additional information about this IC, contact Hope Grey at hope_grey@fws.gov (email) or 703-358-2482 (telephone).

SUPPLEMENTARY INFORMATION:

I. Abstract

Conservation banks are permanently protected lands that contain natural resource values, which are conserved and permanently managed for species that are endangered, threatened, candidates for listing as endangered or threatened, or are otherwise species-at-risk. The habitat preserved, restored, or established in conservation banks is used to offset adverse impacts to species that occurred elsewhere. We approve habitat or species credits that bank owners may sell in exchange for permanently protecting and managing habitat for these species. We began approving conservation banks in the early 1990s, and 105 banks have been approved as of March 2013.

The Service and the Department of the Interior's Office of Policy Analysis are conducting an analysis to identify potential institutional or other impediments to the habitat conservation banking program, and develop possible options for encouraging expanded use of the program. We plan to ask OMB for approval to implement surveys of conservation bank sponsors and purchasers of conservation banking credits. The surveys will benefit the Service by helping to identify constraints in the current conservation banking program, and thus provide important information for developing recommendations for further expansion or perhaps changes to the program.

We will use information from the Regulatory In lieu fee and Bank Information Tracking System (RIBITS) database and other sources to obtain contact information for bank sponsors and bank credit purchasers. We plan to survey the entire sample of entities taking part in our habitat conservation banking program, and a random sample of entities that have purchased bank credits. We plan to collect:

(1) Background information on the bank(s) and credit purchasers.

(2) Information about experience with the conservation banking program.

(3) Perceptions of technical and institutional obstacles encountered in the conservation banking program.

(4) Perceptions of incentives that would help foster successful banks.

(5) Information about the choice of conservation bank credit purchase compared to other mitigation options for bank credit purchasers.

II. Data

OMB Control Number: 1018-XXXX. This is a new collection.

Title: Fish and Wildlife Service Conservation Banking Survey.

Service Form Number: None.

Type of Request: Request for a new OMB control number.

Description of Respondents: Representatives from conservation banks and purchasers of conservation bank credits.

Respondent's Obligation: Voluntary.

Frequency of Collection: One time.

Activity | Number of respondents | Number of responses | Completion time per response (minutes) | Total annual burden hours
Survey of conservation bank representatives | 75 | 75 | 25 | 1,875
Survey of conservation bank purchasers | 100 | 100 | 25 | 2,500
TOTALS | 175 | 175 |  | 4,375

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 9, 2013.
Tina A. Campbell,
Chief, Division of Policy and Directives Management, U.S. Fish and Wildlife Service.

[FR Doc. 2013-11536 Filed 5-14-13; 8:45 am]

BILLING CODE 4310-55-P